DEPARTMENT OF TRANSPORTATION

Federal Aviation Administration

14 CFR Part 21

Final Airworthiness Design Standards for Acceptance Under the Primary Category Rule; Orlando Helicopter Airways (OHA), Inc., Models Cessna 172I, 172K, 172L, and 172M

AGENCY: Federal Aviation Administration (FAA), DOT.

ACTION: Issuance of final Airworthiness Design Standards.

SUMMARY: This Airworthiness Design Standard is issued to OHA, Inc., for certification under primary category regulations of modified Cessna 172I, 172K, 172L, and 172M airplanes.

DATES: This Airworthiness Design Standard is effective September 29, 2010.

FOR FURTHER INFORMATION CONTACT: Mr. Leslie B. Taylor, Aerospace Engineer, Standards Office (ACE-111), Small Airplane Directorate, Aircraft Certification Service, FAA; telephone number (816) 329-4134, fax number (816) 329-4090, e-mail at leslie.b.taylor@faa.gov.

SUPPLEMENTARY INFORMATION: Any person may obtain a copy of this information by contacting the person named above under FOR FURTHER INFORMATION CONTACT.

Background

The “primary” category for aircraft was created specifically for the simple, low performance personal aircraft. Section 21.17(f) provides a means for applicants to propose airworthiness standards for their particular primary category aircraft. The FAA procedure establishing appropriate airworthiness standards includes reviewing and possibly revising the applicant's proposal, publication of the submittal in the Federal Register for public review and comment, and addressing the comments. After all necessary revisions, the standards are published as approved FAA airworthiness standards.

Discussion of Comments

Existence of Proposed Airworthiness Design Standards for Acceptance Under the Primary Category Rule; Orlando Helicopter Airways (OHA), Inc., Models Cessna 172I, 172K, 172L, and 172M airplanes was published in the Federal Register on June 21, 2010, 75 FR 34953. No comments were received, and the airworthiness design standards are adopted as proposed.

Applicability

As discussed above, these airworthiness design standards under the primary category rule are applicable to the C172I, C172K, C172L, and C172M. Should OHA, Inc., wish to apply these airworthiness design standards to other airplane models, OHA, Inc. must submit a new airworthiness design standard application under the primary rule category.

Conclusion

This action affects only certain airworthiness design standards on Cessna model C172I, C172K, C172L, C172M airplanes. It is not a standard of general applicability and it affects only the applicant who applied to the FAA for approval of these features on the airplane.

Citation

The authority citation for these airworthiness standards is as follows:

Authority: 49 U.S.C. 106(g), 40113 and 44701.

Final Airworthiness Standards for Acceptance Under the Primary Category Rule

For all airplane modifications and the powerplant installation:

Part 3 of the Civil Air Regulations (CAR 3), effective November 1, 1949, as amended by Amendments 3-1 through 3-12, except for § 3.415, Engines and § 3.416(a), Propellers; and 14 CFR part 23, §§ 23.603, 23.863, 23.907, 23.961, 23.1322 and 23.1359 (latest amendments through Amendment 23-59) as applicable to these airplanes.

For engine assembly certification:

Joint Aviation Requirements 22 (JAR 22), “Sailplanes and Powered Sailplanes,” Change 5, dated October 28, 1995, Subpart H only.

For propeller certification:

14 CFR part 35 as amended through Amendment 35-8 except § 35.1 (or a propeller with an FAA type certificate may be used).

For noise standards:

14 CFR part 36, Amendment 36-28, Appendix G.

Issued in Kansas City, Missouri, on August 19, 2010.
John R. Colomy,
Acting Manager, Small Airplane Directorate, Aircraft Certification Service.

[FR Doc. 2010-21444 Filed 8-27-10; 8:45 am]

BILLING CODE 4910-13-P